DEPARTMENT OF JUSTICE

Office of Justice Programs

[OJP (OJJDP) Docket No. 1480]

Meeting of the Federal Advisory Committee on Juvenile Justice

AGENCY: Office of Juvenile Justice and Delinquency Prevention, Office of Justice Programs, Justice.

ACTION: Notice of meeting.

SUMMARY: The Office of Juvenile Justice and Delinquency Prevention (OJJDP) is announcing the Spring meeting of the Federal Advisory Committee on Juvenile Justice (FACJJ), which will be held in Washington, DC, April 6 to 8, 2008.

Dates and Locations: The meeting times and locations are as follows: 1. Sunday, April 6, 2008, 5 p.m. to 6:30 p.m., Washington Plaza Hotel, 10 Thomas Circle, NW., Washington, DC 20005.

2. Monday, April 7, 2008, 8:30 a.m. to 5:30 p.m., Office of Justice Programs, 810 Seventh Street, NW., Washington, DC 20531.

3. Tuesday, April 8, 2008, 8:30 a.m. to 1 p.m., Office of Justice Programs, 810 Seventh Street, NW., Washington, DC 20531.

FOR FURTHER INFORMATION CONTACT: Robin Delany-Shabazz, Designated Federal Official, OJJDP, Robin.Delany-Shabazz@usdoj.gov, or 202-307-9963. [Note: This is not a toll-free number.]

SUPPLEMENTARY INFORMATION: The Federal Advisory Committee on Juvenile Justice (FACJJ), established pursuant to Section 3(2)A of the Federal Advisory Committee Act (5 U.S.C. App.2), will meet to carry out its advisory functions under Section 223(f)(2)(C-E) of the Juvenile Justice and Delinquency Prevention Act of 2002. The FACJJ is composed of one representative from each state and territory. FACJJ duties include: Reviewing Federal policies regarding juvenile justice and delinquency prevention; advising the OJJDP Administrator with respect to particular functions and aspects of OJJDP; and advising the President and Congress with regard to State perspectives on the operation of OJJDP and Federal legislation pertaining to juvenile justice and delinquency prevention. More information, including a member list, may be found at http://www.facjj.org.

Meeting Agenda

1. Sunday, April 6, 2008

• 5 p.m.-6:30 p.m. Welcome, Call to Order, Preview of the Agenda; Discussion of State Best Practices; and Summary. (Open Session)

2. Monday, April 7, 2008

• 8:30 a.m.-12:15 p.m. Call to Order; Discussion on Compliance Monitoring; Remarks by the OJJDP Administrator; and Overview of 2008 Annual Report Final Drafts (Open Session)

• 12:15 p.m.-1:45 p.m. Working Lunch/Sub Committee Meetings (Closed Session)

• 1:45 p.m.-5:30 p.m. Sub Committee Report Outs; Review and Discussion of 2008 Annual Report Final Drafts. (Open Session)

3. Tuesday, April 8, 2008

• 8:30 a.m.-1 p.m. Call to Order; Completion of Discussion of Reports; Adoption of Final Drafts; Summary and Adjournment. (Open Session)

For security purposes, members of the FACJJ and of the public who wish to attend, must pre-register online at http://www.facjj.org. Should problems arise with web registration, call Daryel Dunston at 240-221-4343. Members of the public must register by Monday, March 31, 2008. [Note: these are not toll-free telephone numbers.]

Additional identification documents may be required. Space is limited.

Please note: Photo identification will be required for admission to the meeting.

Written Comments

Interested parties may submit written comments by Monday, March 31, 2008, to Robin Delany-Shabazz, Designated Federal Official for the Federal Advisory Committee on Juvenile Justice, OJJDP, at Robin.Delany-Shabazz@usdoj.gov. If e-mail is not available, please fax your comments to 202-354-4063 and call Patricia Philogene at 202-305-2704 to ensure that the fax was received. [Note: These are not toll-free numbers.] No oral presentations will be permitted at the meeting. However, written questions and comments from members of the public attending the meeting may be invited.

J. Robert Flores,
Administrator, Office of Juvenile Justice and Delinquency Prevention.

[FR Doc. E8-5531 Filed 3-18-08; 8:45 am]

BILLING CODE 4410-18-P